DEPARTMENT OF TRANSPORTATION

Federal Aviation Administration

14 CFR Part 71

[Docket No. FAA-2004-18734; Airspace Docket No. 03-AAL-03]

RIN 2120-AA66

Revision of Colored Federal Airway; AK

AGENCY: Federal Aviation Administration (FAA), DOT.

ACTION: Final rule.

SUMMARY: This action revises Colored Federal Airway Green 16 (G-16), in Alaska. This action adds to the instrument flight rules (IFR) airway and route structure in Alaska by extending G-16 from Put River, AK, to Barter Island, AK. The FAA is taking this action to enhance the safety and management of aircraft operations in Alaska.

EFFECTIVE DATE: 0901 UTC, May 12, 2005.

FOR FURTHER INFORMATION CONTACT: Ken McElroy, Airspace and Rules, Office of System Operations and Safety, Federal Aviation Administration, 800 Independence Avenue, SW., Washington, DC 20591; telephone: (202) 267-8783.

SUPPLEMENTARY INFORMATION:

History

On September 3, 2004, the FAA published in the Federal Register a notice proposing to establish G-16 (69 FR 53860), a new IFR route in Alaska. This action would convert an uncharted non-regulatory part 95 route to a colored Federal airway. The route conversion provides an airway structure to support existing commercial services in Alaska. Interested parties were invited to participate in this rulemaking effort by submitting written comments on the proposal. No comments were received. With the exception of editorial changes, this amendment is the same as that proposed in the notice.

The Rule

The FAA is amending Title 14 Code of Federal Regulations (14 CFR) part 71 (part 71) to extend G-16 from the Put River, NDB, to the Barter Island, NDB in Alaska. This action adds to the IFR airway and route structure in Alaska. The FAA is taking this action to enhance the safety and management of aircraft operations in Alaska. Adoption of this Federal airway: (1) Provides pilots with minimum en route altitudes and minimum obstruction clearance altitudes information; (2) establishes controlled airspace thus eliminating some of the commercial IFR operations in uncontrolled airspace; and (3) improves the management of air traffic operations and thereby enhance safety.

Green Colored Federal Airways are published in paragraph 6009(a) of FAA Order 7400.9M dated August 30, 2004, and effective September 16, 2004, which is incorporated by reference in 14 CFR 71.1. The Green Colored Federal Airway listed in this document will be published subsequently in the order.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action qualifies for categorical exclusion under the National Environmental Policy Act in accordance with Paragraph 311(a) of FAA Order 1050.1E, Policies and Procedures for Considering Environmental Impacts. This airspace action is not expected to cause any potentially significant impacts, and no extraordinary circumstances exist that warrant preparation of an environmental assessment.

List of Subjects in 14 CFR Part 71

Airspace, Incorporation by reference, Navigation (air).

Adoption of the Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the FAA Order 7400.9M, Airspace Designations and Reporting Points, dated August 30, 2004, and effective September 16, 2004, is amended as follows:

Paragraph 6009(a)—Green Federal Airways

* * * * *

G-16 [Revised]

From Point Lay, AK, NDB; Wainwright Village, AK, NDB; Browerville, AK, NDB; Nuiqsut Village, AK, NDB; Put River, AK, NDB; to Barter Island, AK, NDB.

* * * * *

Issued in Washington, DC, on January 27, 2005.
Edie Parish,
Acting Manager, Airspace and Rules.

[FR Doc. 05-2228 Filed 2-4-05; 8:45 am]

BILLING CODE 4910-13-P